DEPARTMENT OF THE INTERIOR

National Park Service

[NPS-WASO-NAGPRA-19250; PPWOCRADN0-PCU00RP14.R50000]

Notice of Inventory Completion: U.S. Department of Defense, Army Corps of Engineers, Omaha District, Omaha, NE., and State Archaeological Research Center, Rapid City, SD

AGENCY: National Park Service, Interior.

ACTION: Notice.

SUMMARY: The U.S. Army Corps of Engineers, Omaha District (Omaha District), has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Omaha District. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Omaha District at the address in this notice by November 2, 2015.

ADDRESSES: Ms. Sandra Barnum, U.S. Army Engineer District, Omaha, ATTN: CENWO-PM-AB, 1616 Capitol Ave., Omaha, NE 68102, telephone, (402) 995-2674, email sandra.v.barnum@usace.army.mil.

SUPPLEMENTARY INFORMATION: Notice is here given in accordance with the Native American Graves Protection and Repatriation Act (NAGPRA), 25 U.S.C. 3003, of the completion of an inventory of human remains under the control of the Omaha District. The human remains were removed from Crow Creek Village (39BF11), Buffalo County, SD.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by State Archaeological Research Center and Omaha District professional staff in consultation with representatives of The Three Affiliated Tribes of the Fort Berthold Reservation, North Dakota.

History and Description of the Remains

In 1981, human remains representing, at minimum, five individuals were removed from Crow Creek Village (39BF11) in Buffalo County, SD. The human remains were collected during a salvage excavation at the site under the direction of Mr. Tim Nowak, Omaha District Archaeologist. The excavation was undertaken to preserve the artifacts and data eroding out of a cut-bank at the site. Human remains that were excavated from Crow Creek Site (39BF0011) are presently located at the South Dakota State Archaeological Research Center (SARC), under the managerial control of the Omaha District.

In 1999, SARC conducted a review of the 39BF11 collection and located human remains within the faunal collection. The five individuals consist of a child, aged 6-10, three adults of indeterminate age and sex, and one adult, possible female. No known individuals were identified. No associated funerary objects are present.

The human remains were collected from the Initial Middle Missouri Component (AD 1100-1150) of the site. The human remains are determined to be Native American due to their original context in the Native American component of the site and the associated site artifacts indicating Native American ancestry. The Middle Missouri Variant, based on architectural features, geographical location, material cultural, physical anthropological (biological) data, and oral tradition, is likely to be associated with the Mandan population. The Mandan are represented by the Three Affiliated Tribes of the Fort Berthold Reservation, North Dakota.

Determinations Made by the Omaha District

Officials of the U.S. Army Corps of Engineers, Omaha District have determined that:

• Pursuant to 25 U.S.C. 3001(9), the human remains described in this notice represent the physical remains of five individuals of Native American ancestry.

• Pursuant to 25 U.S.C. 3001(2), there is a relationship of shared group identity that can be reasonably traced between the Native American human remains and the Three Affiliated Tribes of the Fort Berthold Reservation, North Dakota.

Additional Requestors and Disposition

Lineal descendants or representatives of any Indian tribe or Native Hawaiian organization not identified in this notice that wish to request transfer of control of these human remains should submit a written request with information in support of the request to Ms. Sandra Barnum, U.S. Army Engineer District, Omaha, ATTN: CENWO-PM-AB, 1616 Capitol Ave., Omaha, NE., 68102, telephone, (402) 995-2674, email sandra.v.barnum@usace.army.mil by November 2, 2015. After that date, if no additional requestors have come forward, transfer of control of the human remains to the Three Affiliated Tribes of the Fort Berthold Reservation, North Dakota, may proceed.

The U.S. Army Corps of Engineers, Omaha District is responsible for notifying the Three Affiliated Tribes of the Fort Berthold Reservation, North Dakota, that this notice has been published.

Dated: September 8, 2015.
Melanie O'Brien,
Manager, National NAGPRA Program.

[FR Doc. 2015-25050 Filed 9-30-15; 8:45 am]

BILLING CODE 4312-50-P